DEPARTMENT OF HOMELAND SECURITY

Coast Guard

33 CFR Part 165

[CGD08-03-029]

RIN 1625-AA11

Regulated Navigation Area; Reporting Requirements for Barges Loaded With Certain Dangerous Cargoes, Inland Rivers, Eighth Coast Guard District

AGENCY: Coast Guard, DHS.

ACTION: Interim final rule; notice of approval of revised collection of information.

SUMMARY: On October 3, 2003, the Coast Guard published an interim final rule in the Federal Register that established a regulated navigation area (RNA) within all inland rivers of the Eighth Coast Guard District and contained reporting requirements for barges loaded with certain dangerous cargoes. This document provides notice that the Office of Management and Budget (OMB) has approved the revised collection of information contained in that interim rule.

DATES: OMB approved the revised collection of information 1625-0105 on November 3, 2003.

FOR FURTHER INFORMATION CONTACT: For information regarding this document, or if you have questions on viewing or submitting material to the docket, write or call Commander (CDR) Jerry Torok or Lieutenant (LT) Kevin Lynn, Project Managers for the Eighth Coast Guard District Commander, Hale Boggs Federal Bldg., 501 Magazine Street, New Orleans, LA 70130, telephone (504) 589-6271.

SUPPLEMENTARY INFORMATION: On October 3, 2003, the Coast Guard published an interim final rule entitled “Regulated Navigation Area; Reporting Requirements for Barges Loaded with Certain Dangerous Cargoes, Inland Rivers, Eighth Coast Guard District” in the Federal Register (68 FR 57358). In the preamble of that interim rule, we stated that we would publish a separate notice if and when OMB approved the revised collection of information (1625-0105) contained in the rule (68 FR 57363). On November 3, 2003, OMB announced that they had approved this revised collection of information.

Dated: December 1, 2003.
R.F. Duncan,
Rear Admiral, U.S. Coast Guard, Commander, Eighth Coast Guard District.

[FR Doc. 03-30917 Filed 12-15-03; 8:45 am]

BILLING CODE 4910-15-P